DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here.

Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before July 6, 2000.

ADDRESSES: Address comments to Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with part 107 of the Federal hazardous materials transportation law (49 U.S.C. 5117(b); 49 CFR 1.53(b)).

Issued in Washington, DC, on June 15, 2000.
J. Suzanne Hedgepeth,
Director, Office of Hazardous Materials, Exemptions and Approvals.

Application No. | Docket No. | Applicant | Modification of exemption
9830-M |  | Worthington Cylinder Corp., Columbus, OH (See Footnote 1) | 9830
10595-M |  | Allied Universal Corp., Miami, FL (See Footnote 2) | 10595
10672-M |  | Burlington Packaging, Inc., Brooklyn, NY (See Footnote 3) | 10672
10832-M |  | Autoliv ASP, Inc., Ogden, UT (See Footnote 4) | 10832
11548-M |  | Lyondell Chemical Co./Equistar Chemicals LP, Houston, TX (See Footnote 5) | 11548
11911-M | RSPA-1997-2735 | Transfer Flow, Inc., Chico, CA (See Footnote 6) | 11911
11967-M | RSPA-1997-2991 | Savage Industries, Inc., Pottstown, PA (See Footnote 7) | 11967
12130-M | RSPA-1998-4386 | FIBA Technologies, Inc., Westboro, MA (See Footnote 8) | 12130
12189-M | RSPA-1998-4896 | Automotive Recyclers Association, Fairfax, VA (See Footnote 9) | 12189
12463-M | RSPA-2000-7423 | Washington State Ferries, Seattle, WA (See Footnote 10) | 12463

(1) To modify the exemption to allow for the transportation of Class 3 and Division 6.1 materials in non-DOT specification stainless steel cylinders designed in part with DOT Specification 4BA cylinders.

(2) To modify the exemption to allow for the transportation of Class 8 materials in tanks cars, to remain standing with unloading connections attached when no product is being transferred.

(3) To modify the exemption to authorize alternative configuration combination packaging for liquid and solid hazardous materials without hazard labels or placards.

(4) To modify the exemption to include two additional manufacturing sites for the transportation for disposal of unapproved waste explosive materials used in passive restraint systems.

(5) To modify the exemption to allow for the transportation of additional Division 4.1 and Division 4.2 materials in DOT Specification cylinders except Specification 8 and 3HT.

(6) To modify the exemption to increase the capacity size of non-DOT specification metal refueling tanks containing Class 3 liquids to 119 gallons.

(7) To modify the exemption to allow for the transportation of additional Class 3, Class 8 and Division 5.1 materials in tank cars to remain connected during unloading.

(8) To modify the exemption to authorize a new portable tank design and the transportation of additional Division 2.2 materials in non-DOT specification insulated portable tanks.

(9) To modify the exemption to allow for rail freight and cargo vessel as authorized modes of transportation for shipments of air bag modules or seat belt pre-tensioners.

(10) To reissue the exemption originally issued on an emergency basis for the transportation of oxygen, refrigerated liquid, in insulated cylinders or insulated cargo tanks aboard passenger vessels.

[FR Doc. 00-15652 Filed 6-20-00; 8:45 am]

BILLING CODE 4910-60-M